DEPARTMENT OF HEALTH AND HUMAN SERVICES

Centers for Disease Control and Prevention

[60-Day-23-23HS; Docket No. CDC-2023-0074]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Program Evaluation for PS22-2208 Component 2. This information collection request is designed to monitor and evaluate the PS22-2208 Component 2 funding opportunity's overall goal of supporting syringe services program (SSP) subrecipients in meeting the needs of people who use drugs (PWUD) and reducing infectious disease and other harms related to drug use during the 5-year PS22-2208 Cooperative Agreement.

DATES: CDC must receive written comments on or before October 24, 2023.

ADDRESSES: You may submit comments, identified by Docket No. CDC-2023-0074 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Program Evaluation for PS22-2208 Component 2—New—National Center for HIV, Viral Hepatitis, STD, and TB Prevention (NCHHSTP), Centers for Disease Control and Prevention, Centers for Disease Control and Prevention (CDC).

Background and Brief Description

PS22-2208 Component 2 (Strengthening Syringe Services Programs) serves as a coordinated and accountable mechanism for distribution of funding to syringe services programs (SSPs) to support implementation and expansion of services in areas of the United States, Territories, and Tribal Nations disproportionately affected by infectious disease consequences of injection drug use. Project activities will directly contribute to establishing and expanding a national SSP infrastructure and prevention of infectious disease consequences of drug use. CDC has funded the National Alliance of State and Territorial AIDs Directors (NASTAD) to implement this project. NASTAD, in partnership with University of Washington will collect monitoring and evaluation data from funded SSPs through their internal mechanisms, both for their internal evaluation as well as to report semi-annual and annual project performance reports and stratified aggregate data to CDC.

The primary purpose of this information collection is to monitor and evaluate the PS22-2208 Component 2 funding opportunity's overall goal of supporting SSP subrecipients in meeting the needs of people who use drugs (PWUD) and reducing infectious disease and other harms related to drug use. During the first year of this Cooperative Agreement, all PS22-2208 SSP subrecipients will be sent a 25-minute baseline program evaluation survey at the start of project implementation, and a 15-minute quarterly program evaluation survey in the following three quarters of the project period. For Years 2-5, new PS22-2208 SSP subrecipients will be sent the baseline survey at the start of project implementation, and all existing subrecipients will receive the quarterly program evaluation survey in the following three quarters of the project period. SSP subrecipients will primarily complete the survey online in REDCap, with options to complete via telephone or videoconferencing modalities. Subrecipients will be asked to complete the surveys within one month of receipt and will receive weekly reminders until the survey is completed. SSP subrecipients may be reminded informally during meetings with NASTAD and may also work with their NASTAD point-of-contact to determine an alternate method of survey completion. The survey will include questions on operational and programmatic characteristics, and quantity of prevention and treatment services provided in-person, through tele-health, and through navigation to off-site care, during the specified evaluation period.

Approximately 200 SSPs will participate in the survey. We estimate that it will take 70 minutes to complete the baseline survey and three quarterly surveys, regardless of how the respondent chooses to complete it (i.e., self-administered online or NASTAD staff-administered by phone or videoconferencing). CDC requests OMB approval for an estimated 233 annual burden hours. There is no cost to survey participants other than their time.

Estimates of Annualized Burden Hours
Respondent | Form | Number of respondents | Number of responses per respondent | Average burden per response (hours) | Total burden (in hours)
All participating SSPs | Strengthening Syringe Services Programs Baseline Survey | 200 | 1 | 25/60 | 83
All participating SSPs | Strengthening Syringe Services Programs Quarterly Survey | 200 | 3 | 15/60 | 150
Total |  |  |  |  | 233

Jeffrey M. Zirger,
Lead, Information Collection Review Office, Office of Public Health Ethics and Regulations, Office of Science, Centers for Disease Control and Prevention.

[FR Doc. 2023-18363 Filed 8-24-23; 8:45 am]

BILLING CODE 4163-18-P